DEPARTMENT OF ENERGY

Trespassing on DOE Property: Fermi Site Office Properties

ACTION: Notice of designation of off-limits areas.

SUMMARY: The Department of Energy (DOE) hereby amends and adds to the previously published site descriptions of various DOE and contractor occupied buildings as off-limits areas. It is a federal crime for unauthorized persons to enter into or upon the Fermi National Accelerator Laboratory located in Kane and DuPage Counties in the State of Illinois. Unauthorized entry into or upon these properties may result in a fine and/or imprisonment.

DATES: Effective Date: January 1, 2014.

FOR FURTHER INFORMATION CONTACT: Jo Ann Williams, Office of General Counsel, 1000 Independence Avenue SW., Washington, DC 20585, (202) 586-6899, or James Durante, III, Office of Chief Counsel, Office of Science Integrated Support Center Chicago Office, 9600 South Cass Ave., Argonne, Illinois 60439, (630) 252-2034.

SUPPLEMENTARY INFORMATION: The Department of Energy (DOE), successor agency to the Atomic Energy Commission (AEC), is authorized, pursuant to section 229 of the Atomic Energy Act of 1954, as amended (42 U.S.C. 2278a), and section 104 of the Energy Reorganization Act of 1974 (42 U.S.C. 5814), as implemented by 10 CFR part 860, published in the Federal Register on September 14, 1993 (58 FR 47984), and section 301 of the Department of Energy Organization Act (42 U.S.C. 7151), to prohibit unauthorized entry and the unauthorized introduction of weapons or dangerous materials into or upon any DOE facility, installation, or real property.

Accordingly, DOE prohibits the unauthorized entry and the unauthorized introduction of weapons or dangerous materials, as provided in 10 CFR 860.3 and 860.4 into any building or structure and upon the Fermi National Accelerator site. Description of the site being designated at this time is as follows:

Sections 19, 20, 29, 30, and part of Section 16, 17, 18, 21, 28, 31, 32 & 33, all in Township 39 North, Range 9 East of the Third Principal Meridian, Winfield Township, DuPage County, Illinois, and part of Sections 13, 24, 25 & 36, all in Township 39 North, Range 8 East of the Third Principal Meridian, Batavia Township, Kane County, Illinois, described as follows: Beginning at the intersection of the centerline of Wilson Street and a line 50 feet Easterly of the centerline of Kirk Road in Kane County; thence Southerly parallel with and 50 feet Easterly of said centerline of Kirk Road to the Northeasterly Right of Way line of the abandoned Chicago, Aurora & Elgin Railroad; thence Southeasterly along said Northeast Railroad Right of Way line to a point on the Northerly Right of Way line of F.A. Route 131 (Illinois Route 56); thence Easterly 242.46 feet along said Northerly Right of Way line of F.A. Route 131 to a point; thence South 101.67 feet parallel with and 26 rods West of the East line of Section 36, Township 39 North, Range 8 East of the Third Principal Meridian to the centerline of F.A. Route 131; thence Easterly 436.14 feet along said Highway centerline to the East line of said section 36; thence North 101.67 feet along said East line of said Section 36 to the Northerly Right of Way of F.A. Route 131; thence Northeasterly along said Right of Way to the West line of a tract of land formerly owned by Commonwealth Edison Company and deeded to the Department of Business and Economic Development of the State of Illinois, and recorded as Document No. 69-48320 in DuPage County; thence Southerly along the West line of said property to the centerline of F.A. Route 131 (Illinois Route 56); thence Easterly along the centerline of F.A. Route 131 (Illinois Route 56) to the Southeast Corner of Lot 1 in C.H. Brummel's Assessment Plat of part of the West Half of Section 33 and part of the East Half of Section 32, Township 39 North, Range 9 East of the Third Principal Meridian, recorded February 17, 1940 as Documents No. 408024 in DuPage County, Illinois; thence North 1°06′ East along the East line of said Lot 1 in C.H. Brummel's Assessment Plat 77.8 feet to the centerline of Old Big Woods Road; thence Westerly along said centerline 20.2 feet; thence North 1°16′ East along an Easterly line of said Lot 1 in C.H. Brummel's Assessment Plat to the North line of Old Big Woods Road, said line also being the North line of F.A. Route 131 (Illinois Route 56); thence Easterly along said Northerly Right of Way line of P.A. Route 131 to the Westerly Right of Way line of the Elgin, Joliet & Eastern Railroad, thence Northerly along said Right of Way line to the South line of West Park, Subdivision in Section 16, Township 39 North, Range 9 East of the Third Principal Meridian; thence Westerly along the South line of said West Park Subdivision to the Southwest Corner of said Subdivision in the center of Town Line Road; thence Northerly 1178.15 feet along the centerline of Town Line Road to a point; thence South 89°04′36″ West 33 feet to the Westerly Right of Way line of Town Line Road; thence Northwesterly parallel with and 400 feet Southwesterly of the Southwesterly Right of Way line of Illinois Alternate Route 30 to the West line of Section 16, Township 39 North, Range 9 East of the Third Principal Meridian; thence North along said West line of Section 16 to the Northeast Corner of Section 17, Township 39 North, Range 9 East of the Third Principal Meridian; thence West along the North line of said Section 17 to the Southeasterly Right of Way line of the Chicago, Burlington & Quincy Railroad; thence Southwesterly 2032.90 feet along said Railroad Right of Way line to a point; thence North 1°26′05″ West 553.67 feet to a point; thence South 63°33′04″ West 4703.41 feet to a point; thence South 0°36′45″ East 227.38 feet to the North line of the Southwest Quarter of Section 18, Township 39 North, Range 9 East of the Third Principal Meridian; thence South 87°42′45″ West 1185.14 feet along said North line of the Southwest Quarter of Section 18 to a point; thence South 0°28′15″ West 314.23 feet to a point; thence South 63°33′13″ West 2537.88 feet to a point; thence South 5°08′40″ West 500.49 feet to a point on the Southerly Right of Way line of the Chicago, Burlington & Quincy Railroad; thence Southwesterly along said Railroad Right of Way line to the North-South centerline of Section 13, Township 39 North, Range 8 East of the Third Principal Meridian; thence Southerly along said Section centerline and the North-South centerline of Section 24, Township 39 North, Range 8 East of the Third Principal Meridian to the centerline of Wilson Street; thence Westerly along said centerline to the Point of Beginning, excepting therefrom the Right of Way of the Chicago, Burlington & Quincy Railroad within the boundary herein described.

Notices stating the pertinent prohibitions of 10 CFR 860.3 and 860.4 and the penalties of 10 CFR 860.5 are being posted at all entrances of the above-referenced areas and at intervals along their perimeters, as provided in 10 CFR 860.6.

If unauthorized entry into or upon these properties is into an area enclosed by a fence, wall, floor, roof or other such structural barrier, conviction for such unauthorized entry may result in a fine not to exceed $100,000 or imprisonment for not more than one year, or both. If unauthorized entry into or upon the properties is into an area not enclosed by a fence, wall, floor, roof, or other such structural barrier, conviction for such unauthorized entry may result in a fine of not more than $5,000.¹

¹ By operation of law, the Criminal Fine Improvements Act of 1987, Public Law 100-185, 101 Stat. 1279 (1987), increased the fine amounts from $1000/$5000 to $5000/$100,000. See, e.g., U.S. v. Lentsch, 369 F.3d 948, 950 (6th Cir. 2004) (quoting 58 FR. 47984 (Sept. 14, 1993)); see also 10 CFR 860.5.

Issued in Washington DC.
Michael J. Weis,
Site Office Manager Fermi Site Office.

[FR Doc. 2014-00863 Filed 1-16-14; 8:45 am]

BILLING CODE 6450-01-P